DEPARTMENT OF ENERGY

Energy Information Administration

Agency Information Collection Proposed Extension

AGENCY: U.S. Energy Information Administration (EIA), Department of Energy (DOE).

ACTION: Notice and request for comments.

SUMMARY: DOE invites public comment on the proposed three-year extension, without change, to the Form FE-746R, “Natural Gas Imports and Exports,” as required under the Paperwork Reduction Act of 1995. This information collection request supports DOE's Office of Fossil Energy and Carbon Management (FECM) in gathering critical information on the U.S. trade in natural gas, including liquefied natural gas (LNG). The data are used to monitor natural gas trade, assess the adequacy of U.S. energy resources to meet near and longer term domestic demands, and support various market and regulatory analyses done by FECM.

DATES: DOE must receive all comments on this proposed information collection no later than September 29, 2025. If you anticipate any difficulties in submitting your comments by the deadline, contact the person listed in the ADDRESSES section of this notice as soon as possible.

ADDRESSES: You may submit comments, identified by OMB control 1901-0294, by email at tu.tran@hq.doe.gov. Include the OMB control number listed in the subject line of the message.

FOR FURTHER INFORMATION CONTACT: Tu Tran, (202) 235-5873, tu.tran@hq.doe.gov. The forms and instructions are available on DOE's website at https://www.energy.gov/fecm/articles/fe-746-data-collection-omb-clearance-process.

SUPPLEMENTARY INFORMATION: This information collection request contains:

(1) OMB No.: 1901-0294.

(2) Information Collection Request Title: Natural Gas Imports and Exports.

(3) Type of Request: Three-year extension without change.

(4) Purpose: The Form FE-746R Natural Gas Imports and Exports collect information on the imports and exports of natural gas, including LNG, under the Natural Gas Act (NGA) (15 U.S.C. 717b).

The Federal Energy Administration Act of 1974 (15 U.S.C. 761 et seq.) and the DOE Organization Act (42 U.S.C. 7101 et seq.) require DOE to carry out a centralized, comprehensive, and unified energy information program. This program collects, evaluates, assembles, analyzes, and disseminates information on energy resource reserves, production, demand, technology, and related economic and statistical information.

Under section 3 of the NGA, DOE is authorized to regulate natural gas imports and exports, including LNG. To carry out DOE's statutory responsibilities, FECM (through its delegated authority) implements regulations (10 CFR part 590) that require any person seeking to import or export natural gas to file an application requesting authorization. The application requires information on the scope and nature of the proposed import/export activity. Additionally, once an importer or exporter receives an authorization from DOE under the NGA, the authorization holder is required to submit monthly reports of all import and/or export transactions on Form FE-746-R.

Form FE-746R has different reporting formats, corresponding to different import and export activities. Generally, however, Form FE-746-R requires the reporting of the following information for the authorized imports or exports on a monthly basis: name of importer/exporter; country of origin/destination; international point of entry/exit; name of supplier; volume; price; transporters; U.S. geographic market(s) served; and duration of supply contract. More information about the Form FE-746R reporting requirements is available at: https://www.energy.gov/fecm/guidelines-filing-monthly-reports.

Both EIA and FECM use the information provided by authorization holders on Form FE-746R to assess the adequacy of energy resources to meet near and longer term domestic demands, and FECM also uses it in the management of its natural gas regulatory program. Specifically, data collected on Form FE-746R are published in FECM's U.S. Natural Gas Imports and Exports Monthly Report, and in EIA's official statistics on U.S. natural gas supply and disposition. In addition, the data are used to monitor the North American natural gas trade, which, in turn, enables the Federal government to perform market and regulatory analyses; improve the capability of industry and the government to respond to any future energy-related supply problems; and keep the general public informed of international natural gas trade.

(5) Annual Estimated Number of Respondents: 396.

(6) Annual Estimated Number of Total Responses: 4,752.

(7) Annual Estimated Number of Burden Hours: 14,256.

(8) Annual Estimated Reporting and Recordkeeping Cost Burden: The cost of the burden hours is estimated to be $1,354,177. DOE estimates that respondents will have no additional costs associated with the surveys other than the burden hours and the maintenance of the information during the normal course of business.

Comments are invited on whether: (a) The proposed collection of information is necessary for the proper performance of agency functions, including whether the information will have a practical utility; (b) DOE's estimate of the burden of the proposed collection of information, including the validity of the methodology and assumptions used, is accurate; (c) DOE can improve the quality, utility, and clarity of the information it will collect; and (d) DOE can minimize the burden of the collection of information on respondents, such as automated collection techniques or other forms of information technology.

Statutory Authority: 15 U.S.C. 772(b) and 42 U.S.C. 7101 et seq., 15 U.S.C. 717b.

Signed in Washington, DC, on July 28, 2025.
Samson A. Adeshiyan,
Director, Office of Statistical Methods and Research, U. S. Energy Information Administration.

[FR Doc. 2025-14401 Filed 7-29-25; 8:45 am]

BILLING CODE 6450-01-P